DEPARTMENT OF TRANSPORTATION

Coast Guard

33 CFR Part 117

[CGD07-02-098]

Drawbridge Operation Regulations; Atlantic Intracoastal Waterway, mile 1055.0 at Pompano Beach, Broward County, FL

AGENCY: Coast Guard, DOT.

ACTION: Notice of temporary deviation from regulations.

SUMMARY: The Commander, Seventh Coast Guard District, has approved a temporary deviation from the regulations governing the operation of the NE. 14th Street (SR 844) bridge, mile 1055.0 at Pompano Beach, Florida, from August 2 to August 14, 2002. This deviation allows this bridge to only open a single-leaf of the bridge. Double-leaf openings will be available with a one-hour advance notice to the bridge tender. This temporary deviation is required to allow the bridge owner to safely complete repairs to the bridge.

DATES: This deviation is effective from 12:01 a.m. on August 2, 2002 to 8 p.m. on August 14, 2002.

ADDRESSES: Material received from the public, as well as documents indicated in this preamble as being available in the docket, will become part of this docket and will be available for inspection or copying at Commander (obr), Seventh Coast Guard District, 909 SE. 1st Avenue, Room 432, Miami, FL 33131 between 7:30 a.m. and 4 p.m., Monday through Friday, except Federal holidays.

FOR FURTHER INFORMATION CONTACT: Mr. Michael Lieberum, Project Officer, Seventh Coast Guard District, Bridge Section at (305) 415-6744.

SUPPLEMENTARY INFORMATION: The SR 844 (NE. 14th Street) bridge, mile 1055.0 at Pompano Beach, Broward County, Florida, has a vertical clearance of 15 feet at mean high water and a horizontal clearance of 45 feet between the down span and the fender system. The existing operating regulations in 33 CFR 117.261(cc) require the bridge to open on signal, except that, from 7 a.m. to 6 p.m., the draw need open only on the quarter-hour and three-quarter-hour.

The Florida Department of Transportation notified the Coast Guard on July 24, 2002, that due to an equipment malfunction, they temporarily can only operate a single-leaf of the drawbridge. A double-leaf opening will be available if a one-hour's notice is provided to the bridge tender, allowing enough time to bring in a work crew to open the other leaf.

The District Commander has granted a temporary deviation from the operating requirements listed in 33 CFR 117.261(cc) to complete repairs to the drawbridge. Under this deviation, the SR 844 (NE. 14th Street) bridge, mile 1055.0 at Pompano Beach, need only open a single-leaf on signal; except that, from 7 a.m. to 6 p.m., the draw need open a single-leaf on the quarter-hour and three-quarter-hour from 12:01 a.m. on August 2, 2002, to 8 p.m. on August 14, 2002. A double-leaf opening will be available if one-hour's advance notice is provided to the bridge tender from 12:01 a.m. on August 2, 2002, to 8 p.m. on August 14, 2002.

Dated: August 1, 2002.
Greg Shapley,
Chief, Bridge Administration Branch, Seventh Coast Guard District.

[FR Doc. 02-20247 Filed 8-8-02; 8:45 am]

BILLING CODE 4910-15-P